DEPARTMENT OF COMMERCE

National Oceanic and Atmospheric Administration

Federal Consistency Appeal by Donald Williams

AGENCY: National Oceanic and Atmospheric Administration (NOAA), Department of Commerce (Commerce).

ACTION: Notice of appeal and request for comments.

SUMMARY: This announcement provides notice that Donald Williams has filed an administrative appeal with the Department of Commerce asking that the Secretary override the State of New York's objection to his proposed erosion-control project along the shoreline of Lake Ontario in Niagara County, New York.

DATES: Public and federal agency comments on the appeal are due within 30 days of the publication of this Notice.

ADDRESSES: Comments should be sent to Suzanne Bass, Attorney-Advisor, National Oceanic and Atmospheric Administration, U.S. Department of Commerce, 1305 East-West Highway, Room 6111, Silver Spring, MD 20910. Materials from the appeal record will be available at the NOAA Office of the General Counsel for Ocean Services.

FOR FURTHER INFORMATION CONTACT: Suzanne Bass, Attorney-Advisor, NOAA Office of the General Counsel, 301-713-7387.

SUPPLEMENTARY INFORMATION:

I. Notice of Appeal

Donald Williams filed a notice of appeal with the Secretary of Commerce pursuant to the Coastal Zone Management Act of 1972 (CZMA), 16 U.S.C. 1451 et seq., and implementing regulations found at 15 CFR Part 930, Subpart H. Mr. Williams appeals an objection, filed by the State of New York, to a consistency determination prepared by Mr. Williams related to his proposed erosion project (stone rip-rap) along the shoreline of Lake Ontario, in Niagara County, New York.

In the federal consistency appeal process, the Secretary may override the State's objection on grounds that the project is consistent with the objectives or purposes of the CZMA or necessary in the interest of national security. To make the determination that the proposed activity is “consistent with objective or purposes” of the CZMA, the Secretary must find that: (1) The proposed activity furthers the national interest as articulated in sections 302 or 303 of the CZMA, in a significant or substantial manner; (2) the adverse effects of the proposed activity do not outweigh its contribution to the national interest, when those effects are considered separately or cumulatively; and (3) no reasonable alternative is available that would permit the activity to be conducted in a manner consistent with enforceable policies of the state's coastal management program. 15 CFR 930.121 (2005), as amended, 71 FR 787, 831 (Jan. 5, 2006). To make the determination that the proposed activity is “necessary in the interest of national security,” the Secretary must find that a national defense or other national security interest would be significantly impaired were the project not allowed to go forward. 15 CFR 930.121.

II. Public and Federal Agency Comments

Written comments are invited on any of the issues the Secretary must consider in deciding this appeal. Comments must be received within 30 days of the publication of this notice, and may be submitted to Suzanne Bass, Attorney-Advisor, NOAA Office of the General Counsel for Ocean Services, National Oceanic and Atmospheric Administration, U.S. Department of Commerce, 1305 East-West Highway, Room 6111, Silver Spring, MD 20910. Comments will be made available to the Appellant and the State.

III. Appeal Documents

NOAA intends to provide the public with access to all materials and related documents comprising the appeal record during business hours, at the NOAA Office of the General Counsel for Ocean Services.

For additional information about this appeal contact Suzanne Bass, 301-713-7387.

(Federal Domestic Assistance Catalog No. 11.419 Coastal Zone Management Program Assistance.)

Dated: August 6, 2007.
Joel La Bissonniere,
Assistant General Counsel for Ocean Services.

[FR Doc. 07-3908 Filed 8-9-07; 8:45 am]

BILLING CODE 3510-08-M